DEPARTMENT OF DEFENSE

Department of the Air Force

Record of Decision for the Environmental Impact Statement Sentinel (Ground Based Strategic Deterrent) Program Deployment and Minuteman III Decommissioning and Disposal

ACTION: Notice of availability of record of decision.

SUMMARY: On May 19, 2023, the Department of the Air Force (DAF) signed the Record of Decision (ROD) for the Environmental Impact Statement Sentinel (Ground Based Strategic Deterrent [GBSD]) Program Deployment and Minuteman III Decommissioning and Disposal.

ADDRESSES: Lt Col Rodney Ellison, Air Force Global Strike Command, Air Forces Strategic-Air Public Affairs, 245 Davis Ave. E, Suite 198, Barksdale AFB, LA 71110, (318.456.1305), rodney.ellison.4@us.af.mil.

SUPPLEMENTARY INFORMATION: The Department of Air Force (DAF) approved the three GBSD locations and their subsequent sequencing (June 2020). Based on this decision, the DAF will sequentially replace all land-based Minuteman III intercontinental ballistic missile in the United States with the Sentinel system, including the motors, interstages, propulsion system rocket engine, and missile guidance set. All missile alert facilities, launch facilities, communication systems, infrastructure, and technologies, including interconnecting utility corridors, will be modernized, replaced, or reused as necessary to support the Sentinel system.

The DAF decision documented in the ROD was based on matters discussed in the Final Environmental Impact Statement, inputs from the public and regulatory agencies, and other relevant factors. The Final Environmental Impact Statement was made available to the public on March 31, 2023, through a Notice of Availability in the Federal Register (Volume 88, Number 62, Page 19302) with a waiting period that ended on May 1, 2023.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2023-12273 Filed 6-7-23; 8:45 am]

BILLING CODE 5001-10-P